DEPARTMENT OF TRANSPORTATION

Office of the Secretary

[Docket No. DOT-OST-2018-0017]

Notice of Public Meeting: Automated Vehicle Policy Summit

AGENCY: Office of the Secretary (OST), U.S. Department of Transportation (DOT).

ACTION: Notice of public meeting.

SUMMARY: OST is announcing a public meeting to seek input regarding Automated Vehicles (AV) 3.0. This document will provide a framework for automation in the surface transportation system and describe DOT's multimodal approach to the safe rollout of AVs. The objectives of the public meeting are to: (1) Get feedback on the draft AV 3.0 Framework; and (2) identify priority Federal and non-Federal activities that can accelerate the safe rollout of AVs. The public meeting will be an open listening session to provide as great an opportunity for comment as possible. All comments provided during the meeting will be oral, and all written comments and presentations should be submitted to the docket for consideration.

DATES: OST will hold the public meeting on March 1, 2018, in Washington, DC. The meeting will start at 1:00 p.m. and continue until 4:00 p.m. EST. Check-in will begin at 12:00 p.m. Attendees should arrive early enough to go through security by 12:50 p.m.

ADDRESSES: The meeting will be held at the U.S. DOT Headquarters building located at 1200 New Jersey Avenue SE, Washington, DC 20590 (Green Line Metro station at Navy Yard) on the [Ground Floor Atrium]. This facility is accessible to individuals with disabilities. The meeting will also be Webcast live; a link to the Webcast will be made available through the registration process.

FOR FURTHER INFORMATION CONTACT: If you have questions about the public meeting, please contact us at automation@dot.gov or Sujeesh Kurup (202-366-9953) or Kevin Gay (202-493-0259).

SUPPLEMENTARY INFORMATION:

Registration is necessary for all attendees. Attendees should register at: www.transportation.gov/av by February 23, 2018. Please provide your name, email address, and affiliation. Also, indicate if you wish to offer oral remarks, and whether you require accommodations such as a sign language interpreter. In person attendance will be limited, so advance registration is required. In-person participants will be accepted on a first-come, first serve basis up to the maximum capacity of the event. For those unable to attend in person, there will also be the option to register for the Webcast of the event through the same registration site.

Although attendees will be given the opportunity to offer oral remarks during the Question and Answer portion of the meeting, there will not be time for attendees to make audio-visual presentations. Also, OST may not be able to accommodate all attendees who wish to make oral remarks; therefore, OST encourages submission of written comments to the docket. OST will conduct the public meeting informally, and technical rules of evidence will not apply. OST will arrange for a written transcript of the meeting and keep the official record open for 30 days after the meeting to allow submission of supplemental information. You may make arrangements to receive copies of the transcripts directly with the court reporter, and the transcript will also be posted in the docket when it becomes available.

In addition to the afternoon public meeting, the Department is hosting, in the morning, several stakeholder breakout sessions on various topics related to automation. The Department anticipates providing a brief summary of those sessions at the public meeting, followed later by a written report, which will be made publicly available, including being placed in the docket. Should it be necessary to cancel the meeting due to inclement weather or other emergency, OST will take all available measures to notify registered participants beforehand.

Written Comments: Written statements and supporting information submitted during the comment period will be considered with the same weight as oral comments and supporting information presented at the public meeting. Please submit all written comments no later than March 9, 2018, by any of the following methods:

• Federal Rulemaking Portal: Go to http://www.regulations.gov. Follow the online instructions for submitting comments.

• Mail: Docket Management Facility: DOT, 1200 New Jersey Avenue SE, West Building Ground Floor, Room W12-140, Washington, DC 20590.

• Hand Delivery or Courier: 1200 New Jersey Avenue SE, West Building Ground Floor, Room W12-140, Washington, DC 20590, between 9 a.m. and 5 p.m. ET, Monday through Friday, except Federal Holidays.

• Fax: 202-366-1767.

Instructions: All submissions must include the Agency name and docket number. Note that all comments received will be posted without change to http://www.regulations.gov, including any personal information provided. Please see the Privacy Act discussion below.

Docket: For access to the docket, go to http://www.regulations.gov to find Docket No. DOT-OST-2018-0017 at any time or to 1200 New Jersey Avenue SE, West Building, Ground Floor, Room W12-140, Washington, DC 20590, between 9 a.m. and 5 p.m., Monday through Friday, except Federal Holidays. Telephone: 202-366-9826.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78), or you may visit http://www.regulations.gov/privacy.html.

Confidential Information: Any submissions containing Confidential Information must be delivered to OST in the following manner:

• Submitted in a sealed envelope marked “confidential treatment requested”;

• Accompanied by an index listing the document(s) or information that the submitter would like the Departments to withhold. The index should include information such as numbers used to identify the relevant document(s) or information, document title and description, and relevant pages numbers and/or section numbers within a document; and

• Submitted with a statement explaining the submitter's grounds for objecting to disclosure of the information to the public.

OST also requests that submitters of Confidential Information include a non-confidential version (either redacted or summarized) of those confidential submissions in the public docket. In the event that the submitter cannot provide a non-confidential version of its submission, OST requests that the submitter post a notice in the docket stating that it has provided OST with Confidential Information. Should a submitter fail to docket either a non-confidential version of its submission or to post a notice that Confidential Information has been provided, we will note the receipt of the submission on the docket, with the submitter's organization or name (to the degree permitted by law) and the date of submission.

Background

On September 12, 2017, DOT released Automated Driving Systems (ADS) 2.0: A Vision for Safety and requested public comment. ADS 2.0, which includes Voluntary Guidance for ADS and Technical Assistance to States, aims to support industry, government officials, safety advocates, and the public. ADS 2.0 responds to public comments, advances a voluntary guidance framework, and assures industry, the States, and the public that the Department will remain a leader in innovation and safety. The full Automated Driving Systems 2.0: A Vision for Safety can be found at www.transportation.gov/av. DOT plans to release a third iteration of the guidance, AV 3.0, in 2018, which responds to feedback provided on 2.0 and provides a framework for automation in the surface transportation system.

Meeting Agenda

This public meeting is being held during the Automated Vehicles 3.0 open comment period and provides an opportunity for individuals and stakeholders to express feedback on that draft framework. Input received at the public meeting may be used to make any necessary clarifications to the draft AV 3.0 Framework, or a future version of the automated vehicle guidance. As appropriate, OST will post clarification information on www.transportation.gov/av. The draft meeting agenda is as follows:

12:30-1:30 p.m. Arrival/Check-In

1:30-2:00 p.m. Keynote Addresses

2:00-2:10 p.m. Overview of AV 3.0

2:10-2:30 p.m. Expert Stakeholder Panel

2:30-3:00 p.m. Multimodal Executive Panel

3:00-3:30 p.m. Audience Question and Answer

3:30-4:00 p.m. Report Outs from Stakeholder Sessions

4:00-4:15 p.m. Closing Remarks

4:15 p.m. Adjourn

Issued in Washington, DC, under authority delegated by 49 U.S.C. 1.25a on:
Dated: February 5, 2018.
Finch Fulton,
Deputy Assistant Secretary for Transportation Policy.

[FR Doc. 2018-02738 Filed 2-9-18; 8:45 am]

BILLING CODE 4910-9X-P